DEPARTMENT OF THE INTERIOR

Bureau of Land Management

[AK-040-1410-01; AA-82263]

Realty Action: FLPMA Sec. 302 Lease, Iliamna Lake

AGENCY: Bureau of Land Management, Interior.

ACTION: Notice of Realty Action, Lease of Public Land.

SUMMARY: Mr. Ted J. Forsi has submitted an application to lease public land. The lease is to be used in conjunction with an existing Special Recreation Permit (SRP). He has held the SRP since 1992. The Permit allows him to guide hunting and fishing clients. He requests to convert the following tent structures into cabins at his existing camp:

(1) 24′ x 24′ Lodge/Cabin

(2) 14′ x 16′ Cabin

(3) 10′ x 12′ Cabin

(4) 10′ x 12′ Cabin

The proposed lease is located approximately 10 miles northwest of Iliamna Lake and is described as:

Seward Meridian, Alaska

T. 7 S., R. 40 W., Sec. 17

Containing approximately 2 acres, more or less.

The State of Alaska has selected the land for conveyance and the applicant must obtain their concurrence.

The land has been examined and found suitable for lease under the provisions of Section 302 of the Federal Land Policy Act and 43 CFR Part 2920.

The lessee shall reimburse the United States for reasonable administrative fees and monitoring of construction, operation, maintenance, and rehabilitation of the land authorized. The reimbursement of costs shall be in accordance with the provisions of 43 CFR 2920.6.

The lease will be offered for a term of 10 years and will require the lessee to pay rent at no less than fair market value.

Detailed information concerning this action is available for review at the office of the Bureau of Land Management, Anchorage Field Office, 6881 Abbott Loop Road, Anchorage, Alaska, 99507-2599.

DATES: Interested parties may submit comments on or before January 25, 2001 to the Field Manager, Anchorage Field Office, 6881 Abbott Loop Road, Anchorage, Alaska 99507-2599. In the absence of a timely objection, this proposed Realty Action will become final.

FOR FURTHER INFORMATION CONTACT: Shirley Rackley, Anchorage Field Office, Bureau of Land Management, 6881 Abbott Loop Road, Anchorage, Alaska 99507-2599; (907) 267-1289 or toll free (1-800) 478-1263.

Dated: November 28, 2000.
Stuart Hirsh,
Field Manager (Acting).

[FR Doc. 00-31460 Filed 12-8-00; 8:45 am]

BILLING CODE 4310-JA-P